INTERNATIONAL TRADE COMMISSION

[Section 337 Investigations]

Notice of Commission Determination To Extend Postponement of All In-Person Section 337 Hearings, Effective June 19, 2020 and Continuing Until Phase Three of the Commission's Three-Phase Plan To Re-Establish On-Site Building Operations

AGENCY: U.S. International Trade Commission.

ACTION: Notice.

SUMMARY: Notice is hereby given that the U.S. International Trade Commission has determined to extend postponement of all in-person hearings under section 337 of the Tariff Act of 1930, as amended, effective June 19, 2020 and continue until such time as the agency enters Phase Three of the Commission's three-phase plan to re-establish on-site business operations.

FOR FURTHER INFORMATION CONTACT: Lisa R. Barton, Secretary to the Commission, U.S. International Trade Commission, 500 E Street SW, Washington, DC 20436, telephone (202) 205-2000. General information concerning the Commission may also be obtained by accessing its internet server at United States International Trade Commission (USITC) at https://www.usitc.gov. The public record for section 337 investigations may be viewed on the Commission's Electronic Document Information System (EDIS) at https://edis.usitc.gov. Hearing-impaired persons are advised that information on this matter can be obtained by contacting the Commission's TDD terminal on (202) 205-1810.

SUPPLEMENTARY INFORMATION: In light of the ongoing concerns regarding Coronavirus (COVID-19), the District of Columbia, the State of Maryland, and the Commonwealth of Virginia recently began measures for a phased reopening of the region. These plans were developed in response to the President's guidance for a three-phased approach based on the advice of public health experts that includes steps to help state, regional, and local officials when reopening their regions. https://www.whitehouse.gov/openingamerica/#criteria. Similarly, based upon guidance from the Office of Management and Budget (OMB) and Office of Personnel Management (OPM), (https://www.whitehouse.gov/wp-content/uploads/2020/04/M-20-23.pdf), as well as from the Centers for Disease Control and Prevention (CDC) and other relevant agencies regarding COVID-19, the USITC has developed a three-phase plan to reestablish on-site business operations. The Chairman has begun implementation of the USITC's three-phase plan, which utilizes the identified gating criteria and relevant factors to guide the Commission's progression through the phases.

Under that plan, the Commission has determined to extend postponement of all section 337 in-person hearings effective June 19, 2020 until such time as the agency enters PHASE THREE of the three-phase plan. Commission Administrative Law Judges (ALJs) are directed to notify all affected parties and to schedule new dates for hearings as appropriate. ALJs may otherwise conduct their investigations in accordance with their established procedures.

The authority for the Commission's determination is contained in section 337 of the Tariff Act of 1930, as amended (19 U.S.C. 1337), and in Part 210 of the Commission's Rules of Practice and Procedure (19 CFR part 210).

By order of the Commission.
Issued: June 22, 2020.
William Bishop,
Supervisory Hearings and Information Officer.

[FR Doc. 2020-13778 Filed 6-25-20; 8:45 am]

BILLING CODE 7020-02-P